DEPARTMENT OF ENERGY

Federal Energy Regulatory Commission

Combined Notice of Filings #1

May 4, 2010.

Take notice that the Commission received the following electric corporate filings:

Docket Numbers: EC10-63-000.

Applicants: Catalyst Renewables, LLC, Black River Generation, LLC.

Description: Joint Application of Black River Generation, LLC and Catalyst Renewables, LLC for Authorization to Dispose of Jurisdictional Facilities and for Expedited Consideration.

Filed Date: 05/04/2010.

Accession Number: 20100504-5085.

Comment Date: 5 p.m. Eastern Time on Tuesday, May 25, 2010.

Take notice that the Commission received the following electric rate filings:

Docket Numbers: ER01-3103-023.

Applicants: Astoria Energy LLC.

Description: Astoria Energy Files Notice of Non-Material Change in Status.

Filed Date: 05/03/2010.

Accession Number: 20100503-5149.

Comment Date: 5 p.m. Eastern Time on Monday, May 24, 2010.

Docket Numbers: ER10-500-001.

Applicants: California Independent System Operator Corporation.

Description: California Independent System Operator Corporation submits response to the March 31, 2010 letter and revised tariff amendments.

Filed Date: 04/30/2010.

Accession Number: 20100430-0025.

Comment Date: 5 p.m. Eastern Time on Friday, May 21, 2010.

Docket Numbers: ER10-720-001.

Applicants: Northeastern Power Company.

Description: Northeastern Power Co submits a market-based rate tariff reflecting an effective dated of 4/6/10.

Filed Date: 05/03/2010.

Accession Number: 20100503-0282.

Comment Date: 5 p.m. Eastern Time on Monday, May 24, 2010.

Docket Numbers: ER10-892-001.

Applicants: Southern Turner Cimarron I, LLC.

Description: Southern Turner Cimarron I, LLC amendment to its March 19, 2010 application for market-based rate authority.

Filed Date: 04/29/2010.

Accession Number: 20100430-0221.

Comment Date: 5 p.m. Eastern Time on Thursday, May 20, 2010.

Docket Numbers: ER10-1067-001.

Applicants: Southwest Power Pool, Inc.

Description: Southwest Power Pool, Inc submits substitute interconnection agreement effective 6/18/10.

Filed Date: 05/03/2010.

Accession Number: 20100504-0210.

Comment Date: 5 p.m. Eastern Time on Monday, May 24, 2010.

Docket Numbers: ER10-1140-000.

Applicants: California Power Exchange Corporation.

Description: California Power Exchange Corporation submits Rate filing for rate Period July 1, 2010 through Dec. 31, 2010.

Filed Date: 04/29/2010.

Accession Number: 20100430-0220.

Comment Date: 5 p.m. Eastern Time on Thursday, May 20, 2010.

Docket Numbers: ER10-1148-000.

Applicants: Entergy Services, Inc.

Description: Entergy Mississippi, Inc submits executed Rate Schedule providing for cost-based power sales for partial requirements service to Municipal Energy Agency to Mississippi.

Filed Date: 04/30/2010.

Accession Number: 20100430-0026.

Comment Date: 5 p.m. Eastern Time on Friday, May 21, 2010.

Docket Numbers: ER10-1150-000.

Applicants: Florida Power Corporation.

Description: Progress Energy Florida, Inc submits its annual cost factor updates that implement the contractually authorized changes in certain cost components for interchange services provided by FPC.

Filed Date: 04/29/2010.

Accession Number: 20100430-0223.

Comment Date: 5 p.m. Eastern Time on Thursday, May 20, 2010.

Docket Numbers: ER10-1160-000.

Applicants: Southwest Power Pool, Inc.

Description: Southwest Power Pool, Inc submits an executed, revised Large Generator Interconnection Agreement with Flatlands Wind Farm, LLC et al.

Filed Date: 04/30/2010.

Accession Number: 20100503-0233

Comment Date: 5 p.m. Eastern Time on Friday, May 21, 2010.

Docket Numbers: ER10-1161-000.

Applicants: PJM Interconnection, LLC.

Description: PJM Interconnection, LLC submits an executed Interconnection Construction Service Agreement with Meadow Lake Wind Farm II LLC et al.

Filed Date: 04/30/2010.

Accession Number: 20100503-0234.

Comment Date: 5 p.m. Eastern Time on Friday, May 21, 2010.

Docket Numbers: ER10-1162-000; ER10-1163-000; ER10-1164-000; ER10-1165-000; ER10-1166-000; ER10-1167-000.

Applicants: Epic Merchant Energy LP; EPIC Merchant Energy Midwest, LP; EPIC Merchant Energy CA LLC; EPIC Merchant Energy NE LP; EPIC Merchant Energy NE LP; EPIC Merchant Energy NJ/PA, LP.

Description: The EPIC Companies submit a Notice of Cancellation of market-based authority.

Filed Date: 04/30/2010.

Accession Number: 20100503-0281.

Comment Date: 5 p.m. Eastern Time on Friday, May 21, 2010.

Docket Numbers: ER10-1171-000.

Applicants: Bluco Energy, LLC.

Description: Bluco Energy, LLC submits a Petition for Acceptance of Initial Rate Schedule, Waivers and Blanket Authority.

Filed Date: 05/03/2010.

Accession Number: 20100503-0279.

Comment Date: 5 p.m. Eastern Time on Monday, May 24, 2010.

Docket Numbers: ER10-1172-000.

Applicants: American Electric Power Service Corporation.

Description: American Electric Power submits Twenty-Second Revised Interconnection and Local Delivery Service Agreement.

Filed Date: 05/03/2010.

Accession Number: 20100503-0283.

Comment Date: 5 p.m. Eastern Time on Monday, May 24, 2010.

Docket Numbers: ER10-1173-000.

Applicants: Portland General Electric Company.

Description: Portland General Electric Company submits Notice of cancellation of service Agreement 2007001 under PGE's Open Access Transmission Tariff, FERC Electric Tariff Third Revised Volume 8.

Filed Date: 05/03/2010.

Accession Number: 20100504-0209.

Comment Date: 5 p.m. Eastern Time on Monday, May 24, 2010.

Applicants: Arizona Public Service Company.

Description: Arizona Public Service Company submits amendment to Exhibit B to the 1991 Operation, Maintenance, and Replacement of Facilities Agreement with Western Area Power Administration.

Filed Date: 05/03/2010.

Accession Number: 20100504-0208.

Comment Date: 5 p.m. Eastern Time on Monday, May 24, 2010.

Docket Numbers: ER10-1175-000.

Applicants: Champlain Hudson Power Express, Inc.

Description: Champlain Hudson Power Express, Inc submits application for authority to sell transmission rights at negotiated rates and request for expedited action.

Filed Date: 05/03/2010.

Accession Number: 20100504-0207.

Comment Date: 5 p.m. Eastern Time on Monday, May 24, 2010.

Docket Numbers: ER10-1176-000.

Applicants: Meadow Lake Wind Farm III LLC.

Description: Petition of Meadow Lake Wind Farm III, LLC for order accepting market- based rate tariff for filing and granting waivers and blanket approvals and request for expedited treatment.

Filed Date: 05/03/2010.

Accession Number: 20100504-0206.

Comment Date: 5 p.m. Eastern Time on Monday, May 24, 2010.

Docket Numbers: ER10-1177-000.

Applicants: Meadow Lake Wind Farm IV LLC.

Description: Meadow Lake Wind Farm IV LLC submits petition for order accepting market-based rate tariff for filing and granting waivers and blanket approvals.

Filed Date: 05/03/2010.

Accession Number: 20100504-0205.

Comment Date: 5 p.m. Eastern Time on Monday, May 24, 2010.

Docket Numbers: ER10-1178-000.

Applicants: Southwest Power Pool, Inc.

Description: Southwest Power Pool, Inc submits notices of cancellation for four Point-to-Point Transmission Service Agreement between SPP as Transmission Provider and Kansas Municipal energy Agency etc.

Filed Date: 05/03/2010.

Accession Number: 20100504-0204.

Comment Date: 5 p.m. Eastern Time on Monday, May 24, 2010.

Take notice that the Commission received the following electric securities filings:

Docket Numbers: ES10-32-000.

Applicants: NSTAR Electric Company.

Description: Supplemental Information of NSTAR Electric Company.

Filed Date: 05/04/2010.

Accession Number: 20100504-5083.

Comment Date: 5 p.m. Eastern Time on Friday, May 14, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-11091 Filed 5-10-10; 8:45 am]

BILLING CODE 6717-01-P